COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds products and a service to the Procurement List that will be furnished by nonprofit agencies employing persons who are blind or have other severe disabilities, and deletes products and a service from the Procurement List previously furnished by such agencies.

DATES: Effective Date: 2/16/2015

ADDRESSES: Committee for Purchase From People Who Are Blind or Severely Disabled, 1401 S. Clark Street, Suite 10800, Arlington, Virginia, 22202-4149.

FOR FURTHER INFORMATION CONTACT: Barry S. Lineback, Telephone: (703) 603-7740, Fax: (703) 603-0655, or email CMTEFedReg@AbilityOne.gov.

SUPPLEMENTARY INFORMATION:

Additions

On 6/13/2014 (79 FR 33911-33912) and 10/24/2014 (79 FR 63605), the Committee for Purchase From People Who Are Blind or Severely Disabled published notices of proposed additions to the Procurement List.

After consideration of the material presented to it concerning capability of qualified nonprofit agencies to provide the products and service and impact of the additions on the current or most recent contractors, the Committee has determined that the products and service listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products and service to the Government.

2. The action will result in authorizing small entities to furnish the products and service to the Government.

3. There are no known regulatory alternatives which would accomplish the objectives of the Javits-Wagner-O'Day Act (41 U.S.C. 8501-8506) in connection with the products and service proposed for addition to the Procurement List.

End of Certification

Accordingly, the following products and service are added to the Procurement List:

Products

PRODUCT NAME/NSNs: Toner Cartridge, Remanufactured Lexmark

NSN: 7510-00-NSH-0212—Optra T630/T632/T634 Series Compatible

NSN: 7510-00-NSH-1010—Optra T644/X644/X646 Series Compatible

NSN: 7510-00-NSH-1060—E260/E360/E460/E462 Series Compatible

NSN: 7510-00-NSH-1061—E360/E460/E462 Series Compatible

NSN: 7510-00-NSH-1063—Multiple T & X Series, Compatible, 25,000 page

NSN: 7510-00-NSH-1064—Multiple T & X Compatible, 36,000 page

MANDATORY FOR PURCHASE BY: Total Government Requirement

MANDATORY SOURCE OF SUPPLY: TRI Industries NFP, Chicago, IL

CONTRACTING ACTIVITY: General Services Administration, New York, NY

LIST TYPE: A-List

Service

SERVICE TYPE: Facilities Maintenance Service

SERVICE IS MANDATORY FOR: U.S. Coast Guard, U.S. Coast Guard Yard, Curtis Bay, 2401 Hawkins Point Road, Baltimore, MD

MANDATORY SOURCE OF SUPPLY: Skookum Educational Programs, Bremerton, WA

CONTRACTING ACTIVITY: Dept of Homeland Security, U.S. Coast Guard, SFLC Procurement, Branch 3, Baltimore, MD

Deletions

On 12/5/2014 (79 FR 72171) and 12/12/2014 (79 FR 73886), the Committee for Purchase From People Who Are Blind or Severely Disabled published notices of proposed deletions from the Procurement List.

After consideration of the relevant matter presented, the Committee has determined that the products and service listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and service to the Government.

3. There are no known regulatory alternatives which would accomplish the objectives of the Javits-Wagner-O'Day Act (41 U.S.C. 8501-8506) in connection with the products and service deleted from the Procurement List.

End of Certification

Accordingly, the following products and service are deleted from the Procurement List:

Products

PRODUCT NAME/NSN: Bag, Protective/NSN: 6545-01-222-0684

MANDATORY SOURCE OF SUPPLY: Mount Rogers Community Services Board, Wytheville, VA

CONTRACTING ACTIVITY: Defense Logistics Agency Troop Support, Philadelphia, PA

PRODUCT NAME/NSN: Cover, Telescope Mounting/NSN: 6650-00-773-2030

MANDATORY SOURCE OF SUPPLY: Huntsville Rehabilitation Foundation, Huntsville, AL

CONTRACTING ACTIVITY: Defense Logistics Agency Troop Support, Philadelphia, PA

Service

SERVICE TYPE: Mess Attendant Service

SERVICE IS MANDATORY FOR: 121st Air Refueling Wing, 7370 Minuteman Way, Redtail Dining Facility, Bldg. 917, Columbus, OH

MANDATORY SOURCE OF SUPPLY: First Capital Enterprises, Inc, Chillicothe, OH

CONTRACTING ACTIVITY: Dept of the Army, W7NU USPFO Activity OH ARNG, Columbus, OH

Barry S. Lineback,
Director, Business Operations.

[FR Doc. 2015-00629 Filed 1-15-15; 8:45 am]

BILLING CODE 6353-01-P